DEPARTMENT OF ENERGY

Federal Energy Regulatory Commission

[Project No. 2232-478]

Duke Power Company; Notice of Availability of Environmental Assessment

August 24, 2005.

In accordance with the National Environmental Policy Act of 1969, as amended, and the Federal Energy Regulatory Commission's (Commission) regulations (18 CFR part 380), Commission staff have prepared an environmental assessment (EA) that analyzes the environmental impacts of allowing Duke Power Company, licensee for the Catawba-Wateree Hydroelectric Project, to grant an easement to the Town of Mooresville, North Carolina, for project property within the Cowans Ford Development, also known as Lake Norman. The new easement will allow the Town of Mooresville to install a new raw water pump station, intake screens, and intake pipes and to have a maximum allowable water withdrawal of 12.0 million gallons per day. The EA contains staff's analysis of the potential environmental impacts of the proposal and concludes that approval of the Proposed Action would not constitute a major Federal action significantly affecting the quality of the human environment.

A copy of the EA is attached to a Commission order titled “Order Approving Non-Project Use of Project Lands and Waters,” which was issued August 23, 2005, and is available for review and reproduction at the Commission's Public Reference Room, located at 888 First Street, NE., Room 2A, Washington, DC 20426. The EA may also be viewed on the Commission(s Web site at http://www.ferc.gov using the “elibrary” link. Enter the docket number (prefaced by P-) and excluding the last three digits, in the docket number field to access the document. For assistance, contact FERC Online Support at FERCOnlineSupport@ferc.gov or toll-free at (866) 208-3676, or for TTY, contact (202) 502-8659.

Magalie R. Salas,
Secretary.

[FR Doc. E5-4740 Filed 8-30-05; 8:45 am]

BILLING CODE 6717-01-P